DEPARTMENT OF TRANSPORTATION

Federal Aviation Administration

14 CFR Part 71

[Docket No. FAA-2011-0010; Airspace Docket No. 11-AAL-1]

Amendment of Federal Airways; Alaska

AGENCY: Federal Aviation Administration (FAA), DOT.

ACTION: Final rule; delay of effective date.

SUMMARY: This action changes the effective date for the amendment of all Anchorage, AK, Federal Airways that are affected by the relocation of the Anchorage VHF Omnidirectional Range (VOR) navigation aid. The FAA is taking this action due to a failed flight inspection.

DATES: The effective date of the rule published on April 28, 2011 (76 FR 23687), is delayed until further notice.

FOR FURTHER INFORMATION CONTACT: Ken McElroy, Airspace, Regulations and ATC Procedures Group, Office of Mission Support Services, Federal Aviation Administration, 800 Independence Avenue, SW., Washington, DC 20591; telephone: (202) 267-8783.

SUPPLEMENTARY INFORMATION:

Background

Federal Register Document FAA-2011-0010, Airspace Docket No. 11-AAL-1, published in the Federal Register on April 28, 2011 (76 FR 23687), proposed the amendment of all Anchorage Federal Airways affected by the relocation of the Anchorage VOR navigation aid. Although satisfactory flight inspection reports were filed in April 2011, these reports were in error. These Federal airways are being impacted by flight inspection delays due to the relocation of the navigation aid, thereby delaying the effective date of June 30, 2011, until further notice. This will allow better coordination for the charting of the airspace.

The FAA has determined that this regulation only involves an established body of technical regulations for which frequent and routine amendments are necessary to keep them operationally current. Therefore, this regulation (1) is not a significant regulatory action under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies federal airways in Alaska.

List of Subjects in 14 CFR Part 71

Airspace, Incorporation by reference, Navigation (air).

Delay of Effective Date

The effective date of the final rule, Airspace Docket 11-AAL-1, as published in the Federal Register on April 28, 2011 (76 FR 23687), is hereby delayed from June 30, 2011, until further notice.

Authority: 49 U.S.C. 106(g), 40103, 40113, 40120; E.O. 10854, 24 FR 9565, 3 CFR, 1959-1963 Comp., p. 389.

Issued in Washington, DC, on June 8, 2011.
Gary A. Norek,
Acting Manager, Airspace, Regulations and ATC Procedures Group.

[FR Doc. 2011-14711 Filed 6-15-11; 8:45 am]

BILLING CODE 4910-13-P